DEPARTMENT OF TRANSPORTATION

Federal Aviation Administration

14 CFR Part 39

[Docket No. 2003-NM-19-AD]

RIN 2120-AA64

Airworthiness Directives; Airbus Model A300 B4-600, A300 B4-600R, and A300 F4-600R (Collectively Called A300-600), A310, A319, A320, A321, A330, and A340 Series Airplanes

AGENCY: Federal Aviation Administration, DOT.

ACTION: Notice of proposed rulemaking (NPRM).

SUMMARY: This document proposes the adoption of a new airworthiness directive (AD) that is applicable to certain Airbus Model A300-600, A310, A319, A320, A321, A330, and A340 series airplanes. This proposal would require a one-time inspection to determine if certain Thales pitot probes are installed, a check for certain part numbers and serial numbers of the affected pitot probes, and cleaning of the drain hole of any affected pitot probes if obstructed. This action is necessary to prevent obstruction of the air intake of the pitot probes, which could result in misleading information being provided to the flightcrew. This action is intended to address the identified unsafe condition.

DATES: Comments must be received by March 8, 2004.

ADDRESSES: Submit comments in triplicate to the Federal Aviation Administration (FAA), Transport Airplane Directorate, ANM-114, Attention: Rules Docket No. 2003-NM-19-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-19-AD” in the subject line and need not be submitted in triplicate. Comments sent via the Internet as attached electronic files must be formatted in Microsoft Word 97 or 2000 or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-19-AD.” The postcard will be date stamped and returned to the commenter.

Availability of NPRMs

Any person may obtain a copy of this NPRM by submitting a request to the FAA, Transport Airplane Directorate, ANM-114, Attention: Rules Docket No. 2003-NM-19-AD, 1601 Lind Avenue, SW., Renton, Washington 98055-4056.

Discussion

The Direction Générale de l'Aviation Civile (DGAC), which is the airworthiness authority for France, notified the FAA that an unsafe condition may exist on certain Airbus Model A300 B4-600, A300 B4-600R, and A300 F4-600R (collectively called A300-600), A310, A319, A320, A321, A330, and A340 series airplanes. The DGAC advises that an operator reported airspeed discrepancy events due to obstruction of the pitot probes on a Model A320 series airplane. Investigation by the parts manufacturer revealed that the obstruction of the air intake of the pitot probes was due to a manufacturing defect at the drain hole. Such obstruction could result in misleading information being provided to the flightcrew.

The pitot probes installed on the affected Model A320 series airplane are also installed on the affected Airbus Model A300-600, A310, A319, A321, A330, and A340 series airplanes. Therefore, the pitot probes on all of these airplane models may be subject to the same unsafe condition.

Explanation of Relevant Service Information

Airbus has issued the following service bulletins, all including Appendix 01:

Service bulletin | Revision level | Date | Model
A300-34-6149 | Original | April 4, 2003 | A300-600
A310-34-2181 | Original | April 4, 2003 | A310
A320-34-1263 | 01 | June 25, 2003 | A319, A320, A321
A330-34-3119 | Original | February 27, 2003 | A330
A340-34-4130 | Original | February 27, 2003 | A340

The service bulletins describe the following procedures:

A300-34-6149 (for Model A300-600 series airplanes) describes procedures for a one-time detailed visual inspection to determine if pitot probes 40DA, 41DA, and 42DA are installed, and a check of those pitot probes for part number (P/N) C16254AA and serial number (S/N) 660 or higher, and cleaning of the drain hole of any affected pitot probe.

A310-34-2181 (for Model A310 series airplanes) describes procedures for a one-time detailed visual inspection to determine if pitot probes 40DA, 41DA, and 42DA are installed, and a check of those pitot probes for P/N C16254AA and S/N 660 or higher, and cleaning of the drain hole of any affected pitot probe.

A320-34-1263 (for Model A319, A320, and A321 series airplanes) describes procedures for a one-time detailed visual inspection to determine if pitot probes 9DA1, 9DA2, and 9DA3 are installed, and a check of those pitot probes for P/N C16195AA and S/N lower than 4760, and cleaning of the drain hole of any affected pitot probe.

A330-34-3119 (for Model A330 series airplanes) describes procedures for a one-time detailed visual inspection to determine if pitot probes 4DA1, 4DA2, and 3DA are installed, and a check of those pitot probes for P/N C16195AA and S/N lower than 4760, and cleaning of the drain hole of any affected pitot probe.

A340-34-4130 (for Model A340 series airplanes) describes procedures for a one-time detailed visual inspection to determine if pitot probes 9DA1, 9DA2, and 9DA3 are installed, and a check of those pitot probes for P/N C16195AA and S/N lower than 4760, and cleaning of the drain hole of any affected pitot probe.

Thales Avionics Service Bulletin, C16195A-34-002, Revision 01 dated February 7, 2003, is referenced in the Airbus service bulletins as an additional source of service information for accomplishment of the cleaning of the drain holes of the pitot probes.

Accomplishment of the actions specified in the Airbus service information is intended to adequately address the identified unsafe condition. The DGAC classified this service information as mandatory and issued French airworthiness directives 2003-148(B), dated April 16, 2003; 2002-586(B) R1, dated April 2, 2002; and 2002-594(B), dated November 27, 2002; to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the Airbus service information described previously, except as discussed below.

Difference Between Airbus Service Bulletins and Proposed AD

The service bulletins recommend completing and submitting an inspection report, included as Appendix 01 of the service bulletins; however, this proposed AD would not require those actions; we do not need this information from operators.

Cost Impact

We estimate that 758 airplanes of U.S. registry would be affected by this proposed AD, that it would take about 2 work hours per airplane to do the proposed inspection, and that the average labor rate is $65 per work hour. Based on these figures, the cost impact of the inspection proposed by this AD on U.S. operators is estimated to be $98,540, or $130 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Airbus Model A340 series airplanes on the U.S. Register. However, should an affected airplane be imported and placed on the U.S. Register in the future, it would take about 2 work hours per airplane to do the proposed inspection, at an average labor rate of $65 per work hour. Based on these figures, the cost impact of the inspection proposed by this AD on U.S. operators is estimated to be $130 per airplane.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2003-NM-19-AD.

Applicability: Airbus Model A300 B4-600, A300 B4-600R, and A300 F4-600R (Collectively Called A300-600), A310, A319, A320, A321, A330, and A340 series airplanes; certificated in any category; as listed in the Airbus service bulletins specified in Table 1 of this AD.

Table 1.
Model | Service bulletin | Revision | Date
A300-600 | A300-34-6149 | Original | April 4, 2003.
A310 | A310-34-2181 | Original | April 4, 2003.
A319, A320, A321 | A320-34-1263 | 01 | June 25, 2003.
A330 | A330-34-3119 | Original | February 27, 2003.
A340 | A340-34-4130 | Original | February 27, 2003.

Compliance: Required as indicated, unless accomplished previously.

To prevent obstruction of the air intake of the pitot probes, which could result in misleading information being provided to the flightcrew, accomplish the following:

One-Time Detailed Inspection

(a) Within 700 flight hours after the effective date of this AD: Do a detailed inspection to determine if certain Thales Avionics pitot probes are installed, and a check of affected pitot probes for certain part numbers (P/N) and serial numbers (S/N), as specified in the Accomplishment Instructions of the applicable Airbus service bulletin listed in Table 1 of this AD, all excluding Appendix 01. Do the inspection and check (including cleaning and marking the drain hole) by doing all the actions per Part 3.A. through Part 3.E. of the Accomplishment Instructions of the applicable Airbus service bulletin. If the specified P/N and S/N are found, before further flight, clean and mark the drain hole if obstructed, per the Accomplishment Instructions of the applicable Airbus service bulletin. If the specified P/N and S/N are not found, no further action is required by this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: The referenced Airbus service bulletins refer to Thales Avionics Service Bulletin, C16195A-34-002, Revision 01, dated February 7, 2003, as an additional source of service information for the cleaning of the drain holes of the pitot probes.

Alternative Methods of Compliance

(b) In accordance with 14 CFR 39.19, the Manager, International Branch, ANM-116, FAA, Transport Airplane Directorate, is authorized to approve alternative methods of compliance for this AD.

Note 3: The subject of this AD is addressed in French airworthiness directives 2003-148(B), dated April 16, 2003; 2002-586(B) R1, dated April 2, 2002; and 2002-594(B), dated November 27, 2002.

Issued in Renton, Washington, on January 29, 2004.
Kalene C. Yanamura,
Acting Manager, Transport Airplane Directorate, Aircraft Certification Service.

[FR Doc. 04-2480 Filed 2-5-04; 8:45 am]

BILLING CODE 4910-13-P